DEPARTMENT OF TRANSPORTATION

Federal Motor Carrier Safety Administration

Notice of Fiscal Year 2012 Safety Grants and Solicitation for Applications

AGENCY: Federal Motor Carrier Safety Administration (FMCSA), DOT.

ACTION: Notice; change in application due dates.

SUMMARY: This notice informs the public of FMCSA's Fiscal Year (FY) 2012 safety grant opportunities and FMCSA's projected application due dates. FMCSA announces these grant opportunities based on authorities provided for in the Safe, Accountable, Flexible, Efficient Transportation Equity Act: A Legacy of Users. The Agency will inform applicants if new authorizing legislation changes its grant programs for FY 2012 through a Federal Register notice. The 10 safety grant programs include the Motor Carrier Safety Assistance Program (MCSAP) Basic grants; MCSAP Incentive grants; New Entrant Safety Audit grants; MCSAP High Priority grants; Commercial Motor Vehicle (CMV) Operator Safety Training grants; Border Enforcement grants (BEG); Commercial Driver's License Program Improvement (CDLPI) grants; Performance and Registration Information Systems Management (PRISM) grants; Safety Data Improvement Program (SaDIP) grants; and the Commercial Vehicle Information Systems and Networks (CVISN) grants. It should be noted that FMCSA does not expect the Commercial Driver's License Information System (CDLIS) Modernization grants to be continued in reauthorization, and, therefore, FMCSA will not be soliciting applications for this grant program in FY 2012.

FOR FURTHER INFORMATION CONTACT: Please contact the following FMCSA staff with questions or needed information on the Agency's grant programs:

MCSAP Basic/Incentive Grants—Suzanne Poole, suzanne.poole@dot.gov, 202-493-0804.

New Entrant Safety Audits Grants—Arthur Williams, arthur.williams@dot.gov, 202-366-3695.

Border Enforcement Grants—Carla Vagnini, carla.vagnini@dot.gov, 202-366-3771.

High Priority Grants—Cim Weiss, cim.weiss@dot.gov, 202-366-0275.

CMV Operator Safety Training Grants—Arthur Williams, arthur.williams@dot.gov, 202-366-0710.

CDLPI Grants—James Ross, james.ross@dot.gov, 202-366-0133.

SaDIP Grants—Cim Weiss, cim.weiss@dot.gov, 202-366-0275.

PRISM Grants—Julie Otto, julie.otto@dot.gov, 202-366-0710.

CVISN Grants—Julie Otto, julie.otto@dot.gov, 202-366-0710.

All staff may be reached at FMCSA, 1200 New Jersey Avenue, SE., Washington, DC 20590. Office hours are from 9 a.m. to 5 p.m., E.S.T., Monday through Friday, except Federal holidays.

SUPPLEMENTARY INFORMATION:

Background and Purpose

FMCSA recognizes that State and local governments and other grantees are dependent on the Agency's safety grants to develop and maintain important CMV safety programs. FMCSA further acknowledges that delays in awarding grant funds may have an adverse impact on these important safety programs. As a result, FMCSA completed a grants process review to identify ways to streamline the application, award, and grants management processes, and to award grant funds earlier each fiscal year. In addition, FMCSA made changes in the grants application, award and oversight processes to standardize application forms, increase the use of electronic documents, standardize quarterly reports, and reduce the number of needed grant amendments.

FMCSA continues to enter into grant agreements beginning October 1 or as soon thereafter as administratively practicable. FMCSA intends to begin awarding grants no later than 90 days from the date the application is due.

FMCSA uses the standard grant application form and quarterly reporting process. FMCSA requires the Standard Form 424 (Application for Federal Assistance) and its attachments for all grant program applications. While each grant program may request different data in some of the data fields on the form, the use of the Standard Form 424 is mandatory. FMCSA uses the Standard Form-Project Progress Report (SF-PPR) as its required form for quarterly reporting. While each grant program may request that different data be submitted in some fields or boxes on the form, the use of the SF-PPR is mandatory.

FMCSA uses the Standard Form-425 Federal Financial Report as its required form for quarterly financial reporting; use of this form is mandatory. Because FMCSA has implemented a new grants management information technology system, GrantSolutions, the Agency will provide all grant agreement documents electronically to its financial processing office. GrantSolutions is a comprehensive grants management system provided by the Grants Center of Excellence (COE). The Grants COE serves as one of three consortia leads under the Grants Management Line of Business E-Gov initiative offering government-wide grants management system support services. GrantSolutions provides standardized grant application, award, and management and oversight throughout the Agency's grant programs. Electronic signature of grant documents in GrantSolutions is the Agency's preferred method for executing grant agreements. FMCSA will provide more information on how to electronically sign documents to grantees after award decisions have been made. Grantees will, however, be required to submit the completed Automated Clearing House (ACH) Vendor Payment Form (SF-3881) directly to FMCSA's financial processing office by U.S. Postal Service, courier service, or secure fax. Additional information is provided below for each individual grant program.

MCSAP Basic and Incentive Grants

Sections 4101 and 4106 of SAFETEA-LU authorize FMCSA's Motor Carrier Safety Grants. MCSAP Basic and Incentive formula grants are governed by 49 U.S.C. 31102-31104 and 49 CFR part 350. Under the Basic and Incentive grants programs, a State lead MCSAP agency, as designated by its Governor, is eligible to apply for Basic and Incentive grant funding by submitting a commercial vehicle safety plan (CVSP). See 49 CFR 350.201 and 350.205. Pursuant to 49 U.S.C. 31103 and 49 CFR 350.303, FMCSA will reimburse each lead State MCSAP agency 80 percent of eligible costs incurred in a fiscal year. Each State will provide a 20 percent match to qualify for the program. The FMCSA Administrator waives the requirement for matching funds for the Virgin Islands, American Samoa, Guam, and the Commonwealth of the Northern Mariana Islands. See 49 CFR 350.305. In accordance with 49 CFR 350.323, the Basic grant funds will be distributed proportionally to each State's lead MCSAP agency using the following four, equally weighted (25 percent) factors:

(1) 1997 road miles (all highways) as defined by the FMCSA;

(2) All vehicle miles traveled (VMT) as defined by the FMCSA;

(3) Population—annual census estimates as issued by the U.S. Census Bureau; and

(4) Special fuel consumption (net after reciprocity adjustment) as defined by the FMCSA.

A State's lead MCSAP agency may qualify for Incentive funds pursuant to 49 CFR 350.207(a) if it can demonstrate that the State's CMV safety program has shown improvement in any or all of the following five categories:

(1) Reduction in the number of large truck-involved fatal crashes;

(2) Reduction in the rate of large-truck-involved fatal crashes or maintenance of a large-truck-involved fatal crash rate that is among the lowest 10 percent of such rates for MCSAP recipients and is not higher than the rate most recently achieved;

(3) Upload of CMV crash reports in accordance with current FMCSA policy guidelines;

(4) Verification of Commercial Driver's Licenses during all roadside inspections; and

(5) Upload of CMV inspection data in accordance with current FMCSA policy guidelines.

Incentive funds will be distributed in accordance with 49 CFR 350.327(b). Prior to the start of each fiscal year, FMCSA calculates the amount of Basic and Incentive funding each State is expected to receive. This information is provided to the States and is made available on the Agency's Web site. The projected FY 2012 distribution is available at http://www.fmcsa.dot.gov/safety-security/safety-initiatives/mcsap/mcsapforms.htm. It should be noted that MCSAP Basic and Incentive formula grants are awarded based on the State's submission of the CVSP. The evaluation factors described in the section below titled “Application Information for FY 2012 Grants” will not be considered. MCSAP Basic and Incentive grant applications must be submitted electronically through grants.gov (http://www.grants.gov).

New Entrant Safety Audit Grants

Sections 4101 and 4107 of SAFETEA-LU also authorize the Motor Carrier Safety Grants to enable grant recipients to conduct interstate New Entrant safety audits consistent with 49 CFR parts 350.321 and 385.301. Eligible recipients are State agencies, local governments, and organizations representing government agencies that use and train qualified officers and employees in coordination with State motor vehicle safety agencies. The goal of the New Entrant Safety Assurance Program is to reduce CMV involved crashes, fatalities, and injuries through consistent, uniform, and effective safety programs. New Entrant grant funds will be awarded, at the discretion of the FMCSA to States to conduct safety audits on new interstate motor carriers. States may use these funds for salaries and related expenses of New Entrant auditors, including training and equipment, and to perform other eligible activities that are directly related to conducting safety audits. The FMCSA's share of these grant funds will be 100 percent pursuant to 49 U.S.C. 31144. New Entrant grant applications must be submitted electronically through grants.gov.

MCSAP High Priority Grants

Section 4107 of SAFETEA-LU also authorizes the Motor Carrier Safety Grants to enable recipients to carry out activities and projects that improve CMV safety and compliance with CMV regulations. Funding is available for projects that are national in scope, increase public awareness and education, demonstrate new technologies and reduce the number and rate of CMV crashes. Eligible recipients are State agencies, local governments, and organizations representing government agencies that use and train qualified officers and employees in coordination with State motor vehicle safety agencies. For grants awarded for public education activities, the Federal share will be 100 percent. For all other High Priority grants, FMCSA will provide reimbursements for no more than 80 percent of all eligible costs, and recipients will be required to provide a 20 percent match. Examples of High Priority activities include innovative traffic enforcement projects, with particular emphasis on work zone enforcement, rural road safety, and innovative traffic enforcement initiatives such as Ticketing Aggressive Cars and Trucks (TACT). TACT provides a research-based safety model that can be replicated by States when conducting a high-visibility traffic enforcement program to promote safe driving behaviors among car and truck drivers. The objective of this program is to reduce the number of commercial truck and bus related crashes, fatalities and injuries resulting from improper operation of motor vehicles and aggressive driving behavior. More information regarding TACT can be found at http://www.fmcsa.dot.gov/safety-security/tact/abouttact.htm. High Priority grant applications must be submitted through grants.gov.

CMV Operator Safety Training Grants

Section 4134 of SAFETEA-LU established a grant program which enables recipients to train current and future drivers in the safe operation of CMVs, as defined in 49 U.S.C. 31301(4). Eligible awardees include State governments, local governments and accredited post-secondary educational institutions (public or private) such as colleges, universities, vocational-technical schools and truck driver training schools. Funding priority for this discretionary grant program will be given to regional or multi-state educational or nonprofit associations serving economically distressed regions of the United States. The Federal share of these funds will be 80 percent, and recipients will be required to provide a 20 percent match. CMV Operator Safety Training grant applications must be submitted electronically through grants.gov.

Border Enforcement Grants (BEG)

Section 4110 of SAFETEA-LU established the BEG program. The purpose of this discretionary program is to provide funding for border CMV safety programs and related enforcement activities and projects. Pursuant to 49 U.S.C. 31107, eligible awardees include State governments that share a land border with Canada or Mexico, and any local government, or entities (i.e., accredited post-secondary public or private educational institutions such as universities) in that State. FMCSA encourages local agencies to coordinate their application with the State lead CMV inspection agency. Applications must include a Border Enforcement Plan and meet the required maintenance of expenditure requirement. BEG funding decisions take into consideration the State or entity's performance on previous BEG awards; the applicant's ability to expend the awarded funds with the BEG performance year; and activities meeting the BEG national criteria established by FMCSA. As established by SAFETEA-LU, the Federal share of these funds will be 100 percent. BEG grant applications must be submitted electronically through grants.gov.

CDLPI Grants

Section 4124 of SAFETEA-LU established a discretionary grant program that provides funding for improving States' implementation of the Commercial Driver's License (CDL) program, including expenses for computer hardware and software, publications, testing, personnel, and training. Pursuant to 49 U.S.C. 31313, funds may not be used to rent, lease, or buy land or buildings. The agency designated by each State as having the primary driver licensing responsibility, including development, implementation, and maintenance of the CDL program, is eligible to apply for basic grant funding. State agencies, local governments, and other entities that can support a State's effort to improve its CDL program or conduct projects on a national scale to improve the national CDL program may also apply for projects under the High Priority and Emerging Issues components. Grant proposals must include a detailed budget explaining how the funds will be used. The Federal share of funds for projects awarded under this grant is established by SAFETEA-LU as 100 percent. The funding opportunity announcement on grants.gov will provide more detailed information on the application process; national funding priorities for FY 2012; evaluation criteria; required documents and certifications; State maintenance of expenditure requirements; and additional information related to the availability of funds. CLDPI grant applications must be submitted electronically through grants.gov.

SaDIP Grants

Section 4128 of SAFETEA-LU established the Safety Data Improvement Program grant opportunity to support State programs by improving the overall quality of CMV data and specifically to improve the timeliness, efficiency, accuracy and completeness of State processes and systems used to collect, analyze and report large truck and bus crash and inspection data, as described 49 U.S.C. 31102. Eligible recipients are State agencies, including the Territories of Puerto Rico, Guam, American Samoa, the Northern Marianas, and the U.S. Virgin Islands, and the District of Columbia. SaDIP applications must address the FMCSA State Safety Data Quality (SSDQ) map, which provides a color-coded, pictorial representation of the State's overall performance against the SSDQ methodology. This methodology was developed by FMCSA to evaluate the completeness, timeliness, accuracy, and consistency of the State-reported CMV crash and inspection records in the Motor Carrier Management Information System (MCMIS). The SSDQ methodology is comprised of nine measures and one Overriding Indicator. Ratings are updated quarterly, and individual State performance is portrayed through the color-coded rating system: Green (good performance), Yellow (fair performance), and Red (poor performance). The color-coded rating system depicts each State's Overall Rating which considers all nine SSDQ measures, except those measures with a rating of “Insufficient Data,” plus the Overriding Indicator. Priority will be given to proposals received from States rated Yellow and Red on the SSDQ Map. The FMCSA will provide reimbursements for no more than 80 percent of all eligible costs; recipients are required to provide a 20 percent match. SaDIP grant applications must be submitted electronically through grants.gov.

PRISM Grants

Section 4109 of SAFETEA-LU authorizes FMCSA to award financial assistance funds to States to implement the PRISM requirements that link Federal motor carrier safety information systems with State CMV registration and licensing systems. This program enables a State to determine the safety fitness of a motor carrier, a registrant, or both when licensing or registering and while the license or registration is in effect. No matching funds are required. PRISM grant applications must be submitted electronically through grants.gov.

CVISN Grants

Section 4126 of SAFETEA-LU authorizes FMCSA to award financial assistance to States to deploy, operate, and maintain elements of their CVISN Program, including commercial vehicle, commercial driver, and carrier-specific information systems and networks. The agency in each State designated as responsible for the development, implementation, and maintenance of a CVISN-related system is eligible to apply for grant funding. Section 4126 of SAFETEA-LU distinguishes between two types of CVISN projects: Core and Expanded. To be eligible for funding of Core CVISN deployment project(s), a State must have its most current Core CVISN Program Plan and Top-Level Design approved by FMCSA and the proposed project(s) should be consistent with its approved Core CVISN Program Plan and Top-Level Design. If a State does not have a Core CVISN Program Plan and Top-Level Design, it may apply for up to $100,000 in funds to either compile or update a Core CVISN Program Plan and Top-Level Design. A State may also apply for funds to prepare an Expanded CVISN Program Plan and Top-Level Design if FMCSA acknowledged the State as having completed Core CVISN deployment. In order to be eligible for funding of any Expanded CVISN deployment project(s), a State must have its most current Expanded CVISN Program Plan and Top-Level Design approved by FMCSA and any proposed Expanded CVISN project(s) should be consistent with its Expanded CVISN Program Plan and Top-Level Design. If a State does not have an existing or up-to-date Expanded CVISN Program Plan and Top-Level Design, it may apply for up to $100,000 in funds to either compile or update an Expanded CVISN Program Plan and Top-Level Design. CVISN grant applications must be submitted electronically through grants.gov. Awards for approved CVISN grant applications are made to all Core CVISN applicants first and then to Expanded CVISN applicants. States must provide a match of 50 percent.

Application Information for FY 2012 Grants

General information about the FMCSA grant programs is available in the Catalog of Federal Domestic Assistance (CFDA) which can be found on the Internet at http://www.cfda.gov. To apply for funding, applicants must register with grants.gov at http://www.grants.gov/applicants/get_registered.jsp and submit an application in accordance with instructions provided.

Evaluation Factors: The following evaluation factors will be used in reviewing the applications for all FMCSA discretionary grants:

(1) Prior performance—Completion of identified programs and goals per the project plan.

(2) Effective Use of Prior Grants—Demonstrated timely use and expensing of available funds.

(3) Cost Effectiveness—Applications will be evaluated and prioritized on the basis of expected impact on safety relative to the investment of grant funds. Where appropriate, costs per unit will be calculated and compared with national averages to determine effectiveness. In other areas, proposed costs will be compared with historical information to confirm reasonableness.

(4) Applicability to announced priorities—If national priorities are included in the grants.gov notice, those grants that specifically address these issues will be given priority consideration.

(5) Ability of the applicant to support the strategies and activities in the proposal for the entire project period of performance.

(6) Use of innovative approaches in executing a project plan to address identified safety issues.

(7) Feasibility of overall program coordination and implementation based upon the project plan.

(8) Any grant-specific evaluation factors, such as program balance or geographic diversity, will be included in the grants.gov application information.

Estimated Application Due Dates: For the following grant programs, FMCSA will consider funding complete applications or plans submitted by the following anticipated dates (final due dates will be indicated in the grants.gov funding opportunity notice):

MCSAP Basic and Incentive Grants—August 1, 2011.

Border Enforcement Grants—September 12, 2011.

MCSAP High Priority Grants—October 17, 2011.

New Entrant Safety Audit Grants—October 17, 2011.

SaDIP Grants—October 31, 2011.

CDLPI Grants—November 14, 2011.

CMV Operator Safety Training Grants—December 5, 2011.

CVISN Grants—December 5, 2011.

PRISM Grants—December 12, 2012.

Applications submitted after due dates may be considered on a case-by-case basis and are subject to availability of funds.

Issued on: August 8, 2011.
Anna J. Amos,
Director, Office of Safety Programs.

[FR Doc. 2011-20557 Filed 8-11-11; 8:45 am]

BILLING CODE 4910-EX-P